DEPARTMENT OF COMMERCE

National Oceanic and Atmospheric Administration

50 CFR Part 622

[Docket No. 060525140-6221-02]

RIN 0648-XG34

Fisheries of the Caribbean, Gulf of Mexico, and South Atlantic; Snapper/Grouper Resources of the South Atlantic; Withdrawal of Trip Limit Reduction

AGENCY: National Marine Fisheries Service (NMFS), National Oceanic and Atmospheric Administration (NOAA), Commerce.

ACTION: Temporary rule; withdrawal of trip limit reduction.

SUMMARY: NMFS withdraws the reduction of the commercial trip limit for golden tilefish in the South Atlantic to 300 lb (136 kg) per trip in or from the exclusive economic zone (EEZ) that was published in the Federal Register on March 28, 2008. Based on updated information, NMFS has determined that the threshold level for implementation of the trip limit will not have been reached by April 6 as originally projected.

DATES: The rule published on March 28, 2008 (73 FR 16571) is withdrawn as of April 2, 2008.

FOR FURTHER INFORMATION CONTACT: Susan Gerhart, telephone 727-824-5305, fax 727-824-5308, e-mail susan.gerhart@noaa.gov.

SUPPLEMENTARY INFORMATION: The snapper-grouper fishery of the South Atlantic is managed under the Fishery Management Plan for the Snapper-Grouper Resources of the South Atlantic (FMP). The FMP was prepared by the South Atlantic Fishery Management Council and is implemented under the authority of the Magnuson-Stevens Fishery Conservation and Management Act (Magnuson-Stevens Act) by regulations at 50 CFR part 622.

Under 50 CFR 622.44(c)(2), NMFS is required to reduce the trip limit in the commercial fishery for golden tilefish from 4,000 lb (1,814 kg) to 300 lb (136 kg) per trip when 75 percent of the fishing year quota is met, by filing a notification to that effect in the Federal Register. Based on reports through February, NMFS determined that 75 percent of the available commercial quota of 295,000 lb (133,810 kg), gutted weight, for golden tilefish would be reached on or before April 6, 2008. Accordingly, NMFS published a trip limit reduction (73 FR 16571, March 28, 2008) reducing the commercial golden tilefish trip limit to 300 lb (136 kg) in the South Atlantic EEZ from 12:01 a.m., local time, on April 6, 2008 through December 31, 2008, unless changed by further notification in the Federal Register. However, a new report including March landings indicated that 75 percent of the quota would not be reached by that date due to unexpected decreases in fishing effort and reporting errors. Therefore, NMFS is withdrawing the trip limit reduction, will continuing monitoring the fishery, and will publish a new trip limit reduction in the Federal Register when 75 percent of the applicable quota is projected to be reached.

Classification

This action responds to the best available information recently obtained from the fishery. The Assistant Administrator for Fisheries, NOAA, (AA), finds good cause to waive the requirement to provide prior notice and opportunity for public comment pursuant to the authority set forth at 5 U.S.C. 553(b)(B) as such prior notice and opportunity for public comment is contrary to the public interest. Allowing prior notice and opportunity for public comment is contrary to the public interest because of the need to immediately implement this action to avoid an unnecessary regulatory restriction and the associated adverse social and economic impacts. Prior notice and opportunity for public comment would require time and would potentially result in economic loss to participants in the fishery. For these same reasons, the AA also finds good cause to waive the 30-day delay in the effectiveness of this action under 5 U.S.C. 553(d)(3).

This action is taken under 50 CFR 622.43(a) and is exempt from review under Executive Order 12866.

Authority: 16 U.S.C. 1801 et seq.

Dated: April 2, 2008.
Alan D. Risenhoover,
Director, Office of Sustainable Fisheries, National Marine Fisheries Service.

[FR Doc. 08-1106 Filed 4-2-08; 2:03 pm]

BILLING CODE 3510-22-S